Proclamation 8174 of September 4, 2007

Patriot Day, 2007

By the President of the United States of America

A Proclamation

September 11, 2001, was a defining moment in American history. On that terrible day, our Nation saw the face of evil as 19 men barbarously attacked us and wantonly murdered people of many races, nationalities, and creeds. On Patriot Day, we remember the innocent victims, and we pay tribute to the valiant firefighters, police officers, emergency personnel, and ordinary citizens who risked their lives so others might live.

After the attacks on 9/11, America resolved that we would go on the offense against our enemies, and we would not distinguish between the terrorists and those who harbor and support them. All Americans honor the selfless men and women of our Armed Forces, the dedicated members of our public safety, law enforcement, and intelligence communities, and the thousands of others who work hard each day to protect our country, secure our liberty, and prevent future attacks.

The spirit of our people is the source of America's strength, and 6 years ago, Americans came to the aid of neighbors in need. On Patriot Day, we pray for those who died and for their families. We volunteer to help others and demonstrate the continuing compassion of our citizens. On this solemn occasion, we rededicate ourselves to laying the foundation of peace with confidence in our mission and our free way of life.

By a joint resolution approved December 18, 2001 (Public Law 107-89), the Congress has designated September 11 of each year as “Patriot Day.”

NOW, THEREFORE, I, GEORGE W. BUSH, President of the United States of America, do hereby proclaim September 11, 2007, as Patriot Day. I call upon the Governors of the United States and the Commonwealth of Puerto Rico, as well as appropriate officials of all units of government, to direct that the flag be flown at half-staff on Patriot Day. I also call upon the people of the United States to observe Patriot Day with appropriate ceremonies, activities, and remembrance services, to display the flag at half-staff from their homes on that day, and to observe a moment of silence beginning at 8:46 a.m. eastern daylight time to honor the innocent Americans and people from around the world who lost their lives as a result of the terrorist attacks of September 11, 2001.

IN WITNESS WHEREOF, I have hereunto set my hand this fourth day of September, in the year of our Lord two thousand seven, and of the Independence of the United States of America the two hundred and thirty-second.

[FR Doc. 07-4423

Filed 9-6-07; 10:10 am]

Billing code 3195-01-P